DEPARTMENT OF COMMERCE

Economic Development Administration

Proposed Information Collection; Comment Request; Semi-Annual and Annual Data Collection Instruments for Economic Development Administration Grantees (Non-Infrastructure Programs)

AGENCY: Economic Development Administration, U.S. Department of Commerce

ACTION: Notice.

SUMMARY: The Department of Commerce, as part of its continuing effort to reduce paperwork and respondent burden, invites the general public and other Federal agencies to take this opportunity to comment on the proposed information collections, as required by the Paperwork Reduction Act of 1995.

DATES: Written comments must be submitted on or before January 13, 2020.

ADDRESSES: Direct all written comments, requests for additional information, or requests for copies of the proposed information collection instrument and instructions to Ksenia Shadrina, Lead Performance and Program Evaluation Analyst, Performance and National Programs Division, Economic Development Administration U.S. Department of Commerce, 1401 Constitution Avenue NW, Mail Stop 71030, Washington, DC 20230, or via email at KShadrina@eda.gov or PRAcomments@doc.gov. All comments received are part of the public record. Comments will generally be posted without change. All Personally Identifiable Information (for example, name and address) voluntarily submitted by the commenter may be publicly accessible. Do not submit Confidential Business Information or otherwise sensitive or protected information.

All comments submitted in response to this notice are a part of the public record and will be made available to the public, which may include posting them on the Regulations.gov website. Comments will generally be posted without change. Please do not include information of a confidential nature, such as sensitive personal information or proprietary information. All Personally Identifiable Information (for example, name and address) voluntarily submitted may be publicly accessible. If you send an email comment, your email address will be automatically captured and included as part of the comment that is placed in the public docket. Please note that comments that include a message stating the confidentiality of the communication will be treated as public comments and will be made available to the public.

SUPPLEMENTARY INFORMATION:

I. Abstract

The Economic Development Administration (EDA) leads the Federal economic development agenda by promoting innovation and competitiveness, preparing American regions for growth and success in the worldwide economy. The Public Works and Economic Development Act of 1965 (PWEDA) (42 U.S.C. 3121 et seq.) is EDA's organic authority and is the primary legal authority under which EDA awards grants. Under PWEDA, EDA provides financial assistance to both rural and urban distressed communities by fostering entrepreneurship, innovation and productivity through investments in infrastructure development, capacity building and business development in order to attract private capital investments and new and better jobs to regions experiencing substantial and persistent economic distress.

EDA's expansive portfolio of programs, the changing economy, and advances in the field of program evaluation make updates to EDA's methods for performance measurement and program evaluation necessary in order to ensure transparency, accountability, and effectiveness of EDA investments. The recently passed Foundations for Evidence-Based Policymaking Act of 2018 (Pub. L. 115-435) further emphasizes the importance of updating existing methodologies for performance measurement and program evaluation to align with evolving best practices.

EDA proposes revising Forms ED-916, ED-917, and ED-918, which are currently used to collect limited performance information on sponsored activities and resulting outcomes from the grantees receiving assistance under just three of EDA's non-infrastructure programs: Partnership Planning, University Center, and the Trade and Adjustment Assistance for Firms, respectively. The revised Forms ED-916, ED-917, and ED-918 would instead comprehensively cover all of EDA's non-infrastructure programs: Economic Adjustment Assistance (non-infrastructure projects), including new Revolving Loan Funds; Planning; Local Technical Assistance, including University Centers; Regional Innovation Strategies; Research and National Technical Assistance; and Trade Adjustment Assistance for Firms. The data on program-sponsored activities and associated outcomes will be collected on semi-annual and annual bases, respectively.

The revised data collection instruments were developed through cooperative agreements with a number of leading research institutions, most notably SRI International. The methodology and applications for the instruments are described in the Innovative Metrics for Economic Development report and Toolkit for Economic Development Practitioners that are available on EDA's website at www.eda.gov/performance/.

EDA does not propose to revise the remaining fourth form under this information collection, Form ED-915, which is used to collect information on infrastructure and existing revolving loan fund (RLF) projects funded through awards from EDA's Public works and Economic Adjustment Assistance programs. Form ED-915 would instead be extended without change; however, EDA plans to revise Form ED-915 in the future to update the information collected on infrastructure projects. Note that all RLF awards made after the implementation of the revised Forms ED-916, ED-917, and ED-918 will be required to report performance information using those Forms; this requirement may be extended to all RLF awards when Form ED-915 is revised.

II. Method of Collection

The information will be collected through online data collection instruments. The information will be used by EDA personnel to monitor recipients' compliance with EDA's statutory and regulatory requirements and specific terms and conditions relating to individual awards, as well as for performance measurement and program evaluation analyses to ensure effectiveness of EDA's programs. The information collected will not be disseminated to the public, except at the aggregated level in studies and reports.

III. Data

OMB Control Number: 0610-0098.

Form Number(s): ED-915, ED-916, ED-917, ED-918.

Type of Review: Revision of a Currently Approved Collection (Forms ED-916, ED-917, ED-918) and Extension (without revision) of a Currently Approved Collection (Form ED-915).

Affected Public: EDA award recipients: State and local governments, institutions of higher education, not-for-profit organizations, and Indian Tribes.

Estimated Number of Respondents:

Revised Forms ED-916, ED-917, and ED-918:

Semi-annual: 550 respondents

Annual: 550 respondents

Extended (without revision) Form ED-915: 500 respondents

Total annual number of responses: (550 × 3) + 500 = 2,150 respondents

Estimated Time per Response:

Revised Forms ED-916, ED-917, and ED-918:

Semi-annual: 2.5 hours × 2 times per year

Annual: 6 hours once per year

Extended (without revision) Form ED-915: 8 hours

Estimated Total Annual Burden Hours:

Revised Forms ED-916, ED-917, and ED-918:

Semi-annual: 2,750 burden hours per year

Annual: 3,300 burden hours per year

Extended Form ED-915: 4,000 hours

Total hours: 10,050 burden hours per year

Estimated Total Annual Cost to Public: $576,568 (cost assumes application of U.S. Bureau of Labor Statistics second quarter 2019 mean hourly wage for professional and related occupations of $57.37).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection. All public comments will become a matter of public record.

Sheleen Dumas,
Departmental Lead PRA Officer, Office of the Chief Information Officer, Commerce Department.

[FR Doc. 2019-24583 Filed 11-8-19; 8:45 am]

BILLING CODE 3510-WH-P